DEPARTMENT OF THE TREASURY

Submission for OMB Review; Comment Request

August 2, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 12, 2001 to be assured of consideration.

Internal Revenue Service (IRS)

OMB Number: 1545-0923.

Regulation Project Number: INTL-45-86 Final (TD 8125).

Type of Review: Extension.

Title: Foreign Management and Foreign Economic Processes Requirements of a Foreign Sales Corporation.

Description: These regulations provide rules for complying with foreign management and foreign economic process requirements to enable Foreign Sales Corporations to produce foreign trading gross receipts and qualify for reduced tax rates. Rules are included for maintaining records to substantiate compliance. Affected public is limited to large corporations that export goods or services.

Respondents: Business or other for-profit.

Estimated Number of Recordkeepers: 11,001.

Estimated Burden Hours Per Recordkeeper: 2 hours.

Frequency of Response: Other (one-time only).

Estimated Total Recordkeeping Burden: 22,001 hours.

OMB Number: 1545-1186.

Form Number: IRS Form 8825.

Type of Review: Extension.

Title: Rental Real Estate Income and Expense of a Partnership or an S Corporation.

Description: Form 8825 is used to verify that partnerships and S corporations have correctly reported their income and expenses from rental real estate property. The form is filed with either Form 1065 or Form 1120S.

Respondents: Business or other for-profit.

Estimated Number of Respondents/Recordkeepers: 705,000.

Estimated Burden Hours Per Respondent/Recordkeeper:

Recordkeeping | 6 hr., 28 min.
Learning about the law or the form | 34 min.
Preparing the form | 1 hr., 38 min.
Copying, assembling, and sending the form to the IRS | 16 min.

Frequency of Response: Annually.

Estimated Total Reporting/Recordkeeping Burden: 6,288,600 hours.

OMB Number: 1545-1357.

Regulation Project Number: PS-78-91 Final, PS-50-92 Final and REG-114664-97 Final.

Type of Review: Extension

Title: Procedure for Monitoring Compliance with Low-Income Housing Credit Requirements (PS-78-91);

Rules to Carry Out the Purposes of Section 42 and for Correcting Administrative Errors and Omissions (PS-50-92); and

Compliance Monitoring and Miscellaneous Issues Relating to the Low-Income Housing Credit (REG-114664-97)

Description: PS-78-91 The regulations require state allocation plans to provide a procedure for state and local housing credit agencies to monitor for compliance with the requirements of section 42 and report noncompliance to the IRS.

PS-50-92 These regulations concern the Secretary's authority to provide guidance under section 42, and provide for the correction of administrative errors and omissions related to the allocation of low-income housing credit dollar amounts and recordkeeping.

REG-114664-97 The regulation amends the procedures for State and local housing credit agencies' compliance monitoring and the rules for State and local housing credit agencies' correction of administrative errors or omissions.

Respondents: Business or other for-profit, Individuals or household, Not-for-profit institutions, State, Local or Tribal Government.

Estimated Number of Respondents/Recordkeepers: 22,055.

Estimated Burden Hours Per Respondent/Recordkeeper: 4 hours, 45 minutes.

Frequency of Response: Annually

Estimated Total Reporting/Recordkeeping Burden: 104,899 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 01-20266 Filed 8-10-01; 8:45 am]

BILLING CODE 4830-01-P